DEPARTMENT OF JUSTICE

Antitrust Division

Notice Pursuant to the National Cooperative Research and Production Act of 1993—Cooperative Research Group on Consortium for NASGRO Development and Support

Notice is hereby given that, on February 24, 2017, pursuant to Section 6(a) of the National Cooperative Research and Production Act of 1993, 15 U.S.C. 4301 et seq. (“the Act”), Southwest Research Institute—Cooperative Research Group on Consortium for NASGRO Development and Support (“NASGRO”) has filed written notifications simultaneously with the Attorney General and the Federal Trade Commission disclosing changes in its membership. The notifications were filed for the purpose of extending the Act's provisions limiting the recovery of antitrust plaintiffs to actual damages under specified circumstances. Specifically, Korean Aerospace Industries, Ltd., Gyeongnam, Korea, and Blue Origin, LLC, Kent, WA, have been added as parties to this venture.

Also, Lockheed Martin Corporation, Cherry Hill, NJ, have withdrawn as a party to this venture.

The following parties have changed their names: Israel Aircraft Industries Ltd. to Israel Aerospace Industries, Ltd., Ben-Gurion Airport, Israel; Agusta Westland to Leonardo SpA, Cascina Costa di Samarate, Italy; GKN Aerospace Sweden AB to GKN Aerospace Services Ltd., Trollhattan, Sweden; EADS Airbus GmbH and EADS Airbus S.A. to Airbus Operations S.A.S., Cedex, France; Alcoa Technical Center to Aronic, Inc., New York, NY; and Siemens Westinghouse Power Corporation to Siemens Energy, Orlando, FL.

No other changes have been made in either the membership or planned activity of the group research project. Membership in this group research project remains open, and NASGRO intends to file additional written notifications disclosing all changes in membership.

On October 3, 2001, NASGRO filed its original notification pursuant to Section 6(a) of the Act. The Department of Justice published a notice in the Federal Register pursuant to Section 6(b) of the Act on January 22, 2002 (67 FR 2910).

The last notification was filed with the Department on August 5, 2015. A notice was published in the Federal Register pursuant to Section 6(b) of the Act on August 25, 2015 (80 FR 51606).

Patricia A. Brink
Director of Civil Enforcement, Antitrust Division.

[FR Doc. 2017-06584 Filed 4-3-17; 8:45 am]

BILLING CODE P